POSTAL SERVICE

39 CFR Part 3

Amendment to Bylaws of the Board of Governors

AGENCY: Postal Service.

ACTION: Final rule.

SUMMARY: On June 15, 2004, the Board of Governors of the United States Postal Service adopted a revision to its bylaws. The purpose of this revision was to reserve the selection of the independent external auditor to the Presidentially-appointed Governors rather than the full Board of Governors. Consequently, the Postal Service hereby publishes this final rule.

EFFECTIVE DATE: June 15, 2004.

FOR FURTHER INFORMATION CONTACT: William T. Johnstone, Secretary of the Board, U.S. Postal Service, 475 L'Enfant Plaza, SW., Washington, DC 20260-1000, (202) 268-4800.

SUPPLEMENTARY INFORMATION: This document publishes a revision to 39 CFR 3.3 and 3.4 of the Bylaws of the Board of Governors of the United States Postal Service. The Board removed and reserved § 3.3(o) which reserved for the full Board the selection of the independent outside auditor. The Board added a new paragraph (k) to § 3.4 to reserve for the Governors the selection of the independent outside auditor. The changes were adopted by the Board on June 15, 2004. The purpose of the changes was to reserve the selection of the independent external auditor to the Presidentially-appointed Governors rather than the full Board of Governors.

List of Subjects in 39 CFR Part 3

Administrative Practice and procedure, Organization and functions (Government agencies), Postal Service.

Accordingly, sections 3. 3 and 3.4 of title 39 CFR are amended as follows:

PART 3—BOARD OF GOVERNORS (ARTICLE 111)

1. The authority citation for part three continues to read as follows:

Authority: 39 U.S.C. 202, 203, 205, 401(2), (10), 402, 414, 416, 1003, 2802-2804, 3013; 5 U.S.C. 552b(g), (j); Inspector General Act, 5 U.S.C. app.; Pub. L. 107-67, 115 Stat. 514 (2001).

2. Section 3.3 is amended by removing and reserving paragraph (o).

§ 3.3 Matters reserved for decision by the Board.

* * * * *

(o) [Reserved]

* * * * *

3. Section 3.4 is amended by adding new paragraph (k) to read as follows:

§ 3.4 Matters reserved for decision by the Governors.

* * * * *

(k) Selection of an independent, certified public accounting firm to certify the accuracy of Postal Service financial statements as required by 39 U.S.C. 2008(e).

Neva Watson,
Attorney, Legislative.

[FR Doc. 04-16023 Filed 7-14-04; 8:45 am]

BILLING CODE 7710-12-P